DEPARTMENT OF DEFENSE

Department of the Army

32 CFR Part 562

[Docket ID: USA-2018-HQ-0019]

RIN 0702-AA76

Reserve Officers' Training Corps

AGENCY: Department of the Army, DoD.

ACTION: Final rule.

SUMMARY: This final rule removes DoD's regulation containing administrative staff instruction and internal policies for conducting the Army's Senior Reserve Officers' Training Corps (SROTC) Program. This applies to the program given at college-level institutions and at the college-level in military junior colleges. This part conveys internal Army policy and procedures and is unnecessary.

DATES: This rule is effective on March 19, 2019.

FOR FURTHER INFORMATION CONTACT: LTC Mark Rea at 703-695-9262.

SUPPLEMENTARY INFORMATION: It has been determined that publication of this CFR part removal for public comment is impracticable, unnecessary, and contrary to public interest since it is based on removing DoD internal policies and procedures that are publicly available on the Department's issuance website. DoD internal guidance will continue to be published in Army Regulation 145-1, “Senior Reserve Officers' Training Corps Program: Organization, Administration and Training,” available at https://armypubs.army.mil/ProductMaps/PubForm/AR.aspx.

This rule is not significant under Executive Order (E.O.) 12866, “Regulatory Planning and Review,” therefore, E.O. 13771, “Reducing Regulation and Controlling Regulatory Costs” does not apply.

List of Subjects in 32 CFR Part 562

Armed forces reserves, colleges and universities.

PART 562—[REMOVED]

Accordingly, by the authority of 5 U.S.C. 301, 32 CFR part 562 is removed.

Brenda S. Bowen,
Army Federal Register Liaison Officer.

[FR Doc. 2019-05134 Filed 3-18-19; 8:45 am]

BILLING CODE 5001-03-P